DEPARTMENT OF ENERGY

Federal Energy Regulatory Commission

[Project No. 400-038]

Williard Janke Complainant, v. Public Service Company of Colorado, Respondent; Notice of Complaint, Request for Fast Track Processing, and Petition for Relief

January 3, 2003.

Take notice that on December 31, 2002, Mr. Williard Janke (Petitioner) filed with the Federal Energy Regulatory Commission (Commission), a Complaint against the Public Service Company of Colorado, licensee of the Tacoma-Ames Project, FERC Project No. 400, alleging various violations of the issued license for the Tacoma-Ames Project and the Commission's regulations under part 12. Petitioner has also requested Fast Track Processing of the Complaint and is petitioning for several forms of relief including a stay of the Licensee's authority to grant permission to cross over and along the Ames penstock and penstock route.

Petitioner states that copies of the Complaint have been served upon the Licensee and the private property owner that has maintained an access road across and along a portion of the Ames penstock route and penstock.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before January 21, 2003. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Magalie R. Salas,
Secretary.

[FR Doc. 03-468 Filed 1-9-03; 8:45 am]

BILLING CODE 6717-01-P